DEPARTMENT OF THE TREASURY

Fiscal Service

Surety Companies Acceptable on Federal Bonds: Continental Heritage Insurance Company

AGENCY: Financial Management Service, Fiscal Service, Department of the Treasury.

ACTION: Notice.

SUMMARY: This is Supplement No. 13 to the Treasury Department Circular 570, 2008 Revision, published July 1, 2008, at 73 FR 37644.

FOR FURTHER INFORMATION CONTACT: Surety Bond Branch at (202) 874-6850.

SUPPLEMENTARY INFORMATION: The Continental Heritage Insurance Company, Columbus, Ohio (NAIC 39551), has redomesticated from the state of Ohio to the state of Florida, effective December 22, 2008.

Federal bond-approving officers should annotate their reference copies of the Treasury Department Circular 570 (“Circular”), 2008 revision, to reflect this change.

The Circular may be viewed and downloaded through the Internet at http://www.fms.treas.gov/c570.

Questions concerning this notice may be directed to the U.S. Department of the Treasury, Financial Management Service, Funds Management Division, Surety Bond Branch, 3700 East-West Highway, Room 6F01, Hyattsville, MD 20782.

Dated: April 9, 2009.
Vivian L. Cooper,
Director, Financial Accounting and Services Division.

[FR Doc. E9-9105 Filed 4-21-09; 8:45 am]

BILLING CODE 4810-35-M